DEPARTMENT OF THE TREASURY

Submission for OMB Review; Comment Request

October 30, 2013.

The Department of the Treasury will submit the following information collection requests to the Office of Management and Budget (OMB) for review and clearance in accordance with the Paperwork Reduction Act of 1995, Public Law 104-13, on or after the date of publication of this notice.

DATES: Comments should be received on or before December 4, 2013 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141-D, Washington, DC 20220, or email at PRA@treasury.gov.

FOR FURTHER INFORMATION CONTACT: Copies of the submission(s) may be obtained by calling (202) 622-1295, email at PRA@treasury.gov, or the entire information collection request may be found at www.reginfo.gov.

Internal Revenue Service (IRS)

OMB Number: 1545-1433.

Type of Review: Extension without change of a currently approved collection.

Title: CO-11-91 (TD 8597) (Final) Consolidated and Controlled Groups- Intercompany Transactions and Related Rules; CO-24-95 (TD 8660) (Final) Consolidated Groups-Intercompany Transactions and Related Rules.

Abstract: The regulations require common parents that make elections under Section 1.1502-13 to provide certain information. The information will be used to identify and assure that the amount, location, timing and attributes of intercompany transactions and corresponding items are properly maintained.

Affected Public: Private Sector: Businesses or other for-profits.

Estimated Annual Burden Hours: 1,050.

Brenda Simms,
Treasury PRA Clearance Officer.

[FR Doc. 2013-26164 Filed 11-1-13; 8:45 am]

BILLING CODE 4830-01-P